DEPARTMENT OF ENERGY

Notice of Program Interest (NOPI)

AGENCY: Office of Isotopes for Medicine and Science, Department of Energy.

ACTION: Notice of Program Interest to the Public.

SUMMARY: The U.S. Department of Energy (DOE), Office of Isotopes for Medicine and Research, Office of Nuclear Energy (NE) solicits responses for development and demonstration programs for long-term improvements in accelerator and/or reactor production of Ac-225/Bi-213 generators for use in diagnosis and therapy of cancer, and other infectious diseases or other innovative medical applications. The Department wishes to encourage development in these areas by providing resources in a cooperative partnering arrangement for the required development/demonstration programs.

DATES: The complete solicitation document will be available on or about April 20, 2001. Any questions must be submitted to the below address by May 1, 2001. Applications are due May 30, 2001.

ADDRESSES: The complete solicitation document will be available on the DOE Industry Interactive Procurement System (IIPS) Home Page at http://doe-iips.pr.doe.gov as solicitation number DE-SC05-01OR22872. Any amendments to this solicitation will be posted at the IIPS site on the Internet and prospective proposers are responsible for checking the IIPS site for amendments or any additional changes to the solicitation as that is the only place that they will be posted.

FOR FURTHER INFORMATION CONTACT: Beth L. Holt, Contract Specialist, at 865-576-0783, U.S. Department of Energy, P.O. Box 2001, Oak Ridge, Tennessee 37831-8759; by facsimile at 865 241-2549; or by e-mail at holtbl@oro.doe.gov or John J. McClure, Program Manager, Office of Isotopes for Medicine and Science, at 301-903-5460.

SUPPLEMENTARY INFORMATION: The Office of Isotopes for Medicine and Science is soliciting responses to this Notice of Program Interest for development and demonstration programs for long-term improvements in accelerator and/or reactor production of Ac-225/Bi-213 generators. Researchers throughout the United States are assessing alpha-emitting radioisotopes that can destroy cancer cells and reduce tumors. B-213 has been effective in killing leukemia cells and shows promise in cancer therapy. The Department's objectives in this effort are to: (1) Develop an assured future supply of Bi-213; (2) maximize private involvement and investment with the long term objective of commercialization; (3) minimize future Government involvement. The Department wishes to encourage the private sector to be involved in the large scale production of these generators by providing resources in a cooperative partnering arrangement for the required development/demonstration programs. The Department's financial assistance awards under this solicitation will be funded through cooperative agreements. The Department has $225,000 in FY 2001 to be divided among up to three awards depending on the concepts presented that best achieve our objectives. It is anticipated that a total of $300,000 will be available in each of the two subsequent years. The purchase of equipment and supplies will be acceptable based on reasonableness and contribution to the project. Applications will be subject to peer review by the Department's representatives. Members that participate in a submission or whose institutions are submitting a proposal must resolve conflict-of-interest concerns. Awards may be renewed upon submittal of an application prior to the original end date. Awards will be administered under the policies of the Department. The solicitation is available through the Industry Interactive Procurement System (IIPS) at http://doe-iips.pr.doe.gov. Dissemination of the solicitation, receipt of applications, evaluations, and the notice of award will occur in a paperless environment. To get more information about IIPS and to register your organization, go to http://doe-iips.pr.doe.gov. Follow the link on the IIPS home page to the Secure Services Page. Registration is a prerequisite to the submission of an application, and applicants are encouraged to register as soon as possible. When registering, all applicants should use the same North American Industry Classification System number 325412. A help document, which describes how IIPS works, can be found at the bottom of the Secure Services Page.

Issued in Oak Ridge, Tennessee on April 16, 2001.
Charles D. Crowe,
Director, Procurement and Contracts Division, Oak Ridge Operations Office.

[FR Doc. 01-10226 Filed 4-24-01; 8:45 am]

BILLING CODE 6450-01-P